DEPARTMENT OF TRANSPORTATION

Federal Highway Administration

Supplemental Environmental Impact Statement: Henderson County, Illinois

AGENCY: Federal Highway Administration (FHWA), DOT.

ACTION: Notice of intent.

SUMMARY: The FHWA is issuing this notice to advise the public that a Supplemental Environmental Impact Statement (EIS) will be prepared for the proposed widening and reconstruction of US 34 in Henderson County, Illinois.

FOR FURTHER INFORMATION CONTACT: Catherine A. Batey, Division Administrator, Federal Highway Administration, 3250 Executive Park Drive, Springfield, Illinois 62703, Phone: (217) 492-4600. Kensil A. Garnett, P.E. Acting Deputy Director of Highways, Region 3 Engineer, Illinois Department of Transportation, 401 Main Street, Peoria, Illinois 61602, Phone: (309) 671-3333.

SUPPLEMENTARY INFORMATION: The FHWA, in cooperation with the Illinois Department of Transportation (IDOT), will prepare a Supplemental EIS for the proposed widening and reconstruction of US 34 in Henderson County. The original EIS study limits were Carman Road (east of the Village of Gulfport) to the Village of Monmouth, Illinois, a total distance of approximately 24.8 miles, for which the Record of Decision was issued on August 18, 2003. The purpose of the project is to re-evaluate alternatives due to decertification of the Mississippi River levees in the portion near Gulfport. The anticipated project termini for this Supplemental EIS are from approximately one mile west of Carman Road to just east of TR 111 in Henderson County, a study area of approximately 8.2 miles.

The Supplemental EIS will evaluate alternatives including a No Action Alternative and various Build Alternatives. The Supplemental EIS will develop and evaluate a range of reasonable alternatives with an ultimate outcome of a single preferred alternative that addresses the type of facility to be implemented, roadway horizontal and vertical alignment, and preliminary interchange/intersection geometrics. Engineering and environmental conditions will be evaluated in order to determine an alignment that meets the transportation needs of the region while minimizing the impacts to the environment.

The Supplemental EIS will evaluate potential effects on the social, economic, natural and physical environments, including land use and socioeconomic conditions, ecological resources, and cultural resources. Potentially affected resources include: Agricultural, residential and commercial properties; streams, wetlands and floodplains; forested areas and potentially historic properties. Preliminary measures to minimize harm, estimates of probable construction costs and estimated right-of-way requirements will be developed as part of this study.

Public involvement is a critical component of the National Environmental Policy Act (NEPA) project development process and will occur throughout the development of the environmental document. This document will be made available for review by federal and state resource agencies and the public. Public informational meetings, local government meetings, property owner meetings and other community organization meetings will provide opportunities for public input. A public hearing will be held at the time the Draft Supplemental EIS is made available for public and agency review and comment. Public notice will be given of the time and place of public meetings and hearings. Comments or questions regarding this proposed action and the Supplemental EIS are invited from all interested parties and should be directed to the FHWA or the IDOT at the addresses provided above.

(Catalog of Federal Domestic Assistance Program Number 20.205, Highway Research, Planning and Construction. The regulations implementing Executive Order 12372 regarding intergovernmental consultation on Federal programs and activities apply to this program.)

Issued On: January 15, 2015.
Catherine A. Batey,
Division Administrator, Federal Highway Administration, Springfield, Illinois.

[FR Doc. 2015-01062 Filed 1-21-15; 8:45 am]

BILLING CODE 4910-22-P